DEPARTMENT OF AGRICULTURE

Forest Service

Plumas County Resource Advisory Committee (RAC)

AGENCY: Forest Service, USDA.

ACTION: Notice of meetings.

SUMMARY: The Plumas County Resource Advisory Committee (RAC) will hold a meeting on June 14, 2002, in Chester, California. One purpose of the meeting is to review and discuss the final project decisions (cycle 1 funding) made by the Plumas National Forest Supervisor for funding/implementation under the Title 2 provisions of the Secure Rural Schools and Community Self-Determination Act of 2000. Secondly, the cycle 1 process will be evaluated and a draft cycle 2 process will be determined.

DATES & ADDRESSES: The meeting will take place from 9-3 p.m., at the Lake Almanor Elks Lodge, 164 Main Street, Chester, California.

FOR FURTHER INFORMATION CONTACT: Lee Anne Schramel Taylor, Forest Coordinator, USDA, Plumas National Forest, P.O. Box 11500/159 Lawrence Street, Quincy, CA, 95971; (530) 283-7850; or by E-MAIL eataylor@fs.fed.us. Agendas are posted one week prior to the meeting on the internet at: http://www.fs.r5.fs.fed.us/pay2states/plumas. Prior meeting minutes and agendas are available on the same site.

SUPPLEMENTARY INFORMATION: Agenda items for the meeting include: (1) Review and discuss the final project decisions (2) Review applicable sections of the Secure Rural Schools and Community Self-Determination Act of 2000, regarding project implementation; (3) Review & discuss cycle 1 process, (4) Tentative timeline for cycle 2 process; and (5) Future meeting schedule/logistics/agenda. The meeting is open to the public and individuals may address the Committee after being recognized by the Chair.

Dated: June 3, 2002.
Mark J. Madrid,
Forest Supervisor.

[FR Doc. 02-14579 Filed 6-10-02; 8:45 am]

BILLING CODE 3410-11-M